DEPARTMENT OF THE INTERIOR

National Park Service

Wekiva River System Advisory Management Committee Meeting

AGENCY: National Park Service, Department of the Interior.

ACTION: Notice of meeting.

SUMMARY: This notice announces a September 20, 2005, meeting of the Wekiva River System Advisory Management Committee.

DATES: The meeting will be held Tuesday, September 20, 2005, at 6 p.m.

ADDRESSES: The meeting will be held at the Sylvan Lake Park, 845 Lake Markham Rd., Sanford, FL 32771. Sylvan Lake Park is located off Interstate 4 at Exit 51 (SR 46). Take SR 46 West to Lake Markham Rd. Turn left on Lake Markham Rd. and continue one mile to Sylvan Lake Park on the left. Call (407) 322-6567 or visit http://www.seminolecountyfl.gov/lls/parks/parkInfo.asp?id=20 for additional information on this facility.

FOR FURTHER INFORMATION CONTACT: Jamie Fosburgh, Rivers Program Manager, Northeast Region—Boston, 15 State Street, Boston, MA 02109, telephone (617) 223-5191.

SUPPLEMENTARY INFORMATION: The meeting will be open to the public. The agenda will include: Welcome & Introductions; Approval of Minutes; Status of Membership/FACA Charter; Discussion/Revision of Draft Management Plan Outline; Consideration of Staffing/Contracting Options; Introduction to “Partnership Wild and Scenic Rivers”; and Closing Summary/Next Steps. Any member of the public may file with the Committee a written statement concerning agenda items. The statement should be addressed to the Wekiva River System Advisory Management Committee, National Park Service, 15 State Street, Boston, MA 02109.

The Wekiva River System Advisory Management Committee was established by Public Law 106-299 to assist in the development of the comprehensive management plan for the Wekiva River System and provide advice to the Secretary in carrying out management responsibilities of the Secretary under the Wild and Scenic Rivers Act (16 U.S.C. 1274).

Dated: August 17, 2005.
Jamie Fosburgh,
Rivers Program Manager.

[FR Doc. 05-17482 Filed 9-2-05; 8:45 am]

BILLING CODE 4312-52-P